DEPARTMENT OF TRANSPORTATION

Surface Transportation Board

Disclosure of Rail-Interchange Commitments; Notice and Request for Comments

AGENCY: Surface Transportation Board, DOT.

ACTION: 30-day notice of request for approval: Disclosure of Rail-Interchange Commitments.

SUMMARY: As required by the Paperwork Reduction Act of 1995, 44 U.S.C. 3501-3519 (PRA), the Surface Transportation Board (STB or Board) has submitted a request to the Office of Management and Budget (OMB) for an reinstatement of approval for the collection of agreements containing rail-interchange commitments. A rail interchange commitment is a contractual provision, which may be included with a sale or lease of a rail line, that limits the incentive or the ability of the purchaser or tenant carrier to interchange traffic with rail carriers other than the seller or lessor railroad. Under the Board's regulations, whenever a carrier or other person seeks authority, through the Board's abbreviated exemption procedures, to acquire (through sale or lease) or to operate a rail line, that carrier or other person is required to submit a copy of any agreement that contains such an interchange commitment.

The Board previously published a notice about this collection in the Federal Register on December 22, 2010, at 75 FR 80,569. That notice allowed for a 60-day public review and comment period. No comments were received. This collection is described in detail below. Comments may now be submitted to OMB concerning: (1) The accuracy of the Board's burden estimates; (2) ways to enhance the quality, utility, and clarity of the information collected; (3) ways to minimize the burden of the collection of information on the respondents, including the use of automated collection techniques or other forms of information technology, when appropriate; and (4) whether this collection of information is necessary for the proper performance of the functions of the Board, including whether the collection has practical utility.

Description of Collection

Title: Disclosure of Rail Interchange Commitments.

OMB Control Number: 2140-0016.

STB Form Number: None.

Type of Review: Reinstatement with change. (The current request reduces the estimated respondents from 65 to 6 respondents based on the Board's actual experience with this collection. As a result, the total annual burden hours is reduced to 1½; hours, rather than the 16 hours, as the Board had estimated when the collection was proposed.)

Respondents: Noncarriers and carriers seeking an exemption to acquire (through purchase or lease) and/or operate a rail line, if the proposed transaction includes an interchange commitment.

Number of Respondents: 6.

Estimated Time per Response: Less than 15 minutes.

Frequency: On occasion.

Total Burden Hours (annually including all respondents): 1½; hours.

Total “Non-hour Burden” Cost: None identified.

Needs and Uses: Under 49 U.S.C. 10502, noncarriers and carriers may seek an exemption from the prior approval requirements of sections 10901, 10902, and 11323 to acquire (through purchase or lease) and operate a rail line. This collection of agreements with interchange commitments facilitates the case-specific review of interchange commitments and facilitates the Board's monitoring of their usage generally.

Retention Period: Information in this report will be maintained in the Board's confidential file for 10 years, after which it is transferred to the National Archives.

DATES: Comments on this information collection should be submitted to OMB by May 9, 2011. When submitting comments, please refer to “Disclosure of Rail Interchange Commitments, OMB Control Number 2140-0016.”

ADDRESSES: Comments should be directed to the Office of Management and Budget, Office of Information and Regulatory Affairs, Attention: Kimberly Nelson, Surface Transportation Board Desk Officer, by fax at (202) 395-6974; by mail at Room 10235, 725 17th Street, NW., Washington, DC 20503; or by e-mail at OIRA_SUBMISSION@OMB.EOP.GOV.

For Further Information or to Obtain a Copy of the STB Form, Contact: Joe Dettmar at (202) 245-0395 or at dettmarj@stb.dot.gov. [Assistance for the hearing impaired is available through the Federal Information Relay Service (FIRS) at 1-800-877-8339.]

SUPPLEMENTARY INFORMATION: Under the PRA, a Federal agency conducting or sponsoring a collection of information must display a currently valid OMB control number. A collection of information, which is defined in 44 U.S.C. 3502(3) and 5 CFR 1320.3(c), includes agency requirements that persons submit reports, keep records, or provide information to the agency, third parties, or the public. Under § 3506(b) of the PRA, Federal agencies are required to provide, concurrent with an agency's submitting a collection to OMB for approval, a 30-day notice and comment period, through publication in the Federal Register, concerning each proposed collection of information, including each proposed extension of an existing collection of information.

Dated: April 5, 2011.
Andrea Pope-Matheson,
Clearance Clerk.

[FR Doc. 2011-8402 Filed 4-7-11; 8:45 am]

BILLING CODE 4915-01-P